DEPARTMENT OF TRANSPORTATION

Federal Aviation Administration

[Summary Notice No. PE-2001-62]

Petitions for Exemption; Summary of Dispositions of Petitions Issued

AGENCY: Federal Aviation Administration (FAA), DOT.

ACTION: Notice of Dispositions of prior petitions.

SUMMARY: Pursuant to FAA's rulemaking provisions governing the application, processing, and disposition of petitions for exemption part 11 of Title 14, Code of Federal Regulations (14 CFR), this notice contains a summary of dispositions of certain petitions previously received and corrections. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on August 17, 2001.
Gary A. Michel,
Acting Assistant Chief Counsel or Regulations.

Disposition of Petitions

Docket No.: FAA-2001-8786 (previously Docket No. 29492).

Petitioner: Lynden Air Cargo.

Section of 14 CFR Affected: 14 CFR 121.344.

Description of Relief Sought/Disposition: To permit LAC to operate its 5 Lockheed Martin 382G Hercules (L382G) airplanes (Registration Nos. N401LC, N402LC, N403LC, N404LC, N405LC; Serial Nos. 4606, 4698, 4590, 4763, and 5025 respectively) under part 121 without those aircraft being equipped with an approved flight data recorder.

Grant, 07/13/2001, Exemption 6921B.

Docket No.: FAA-2001-9097 (previously Docket No. 27205).

Petitioner: Federal Express Corporation.

Section of 14 CFR Affected: 14 CFR 135.143(c)(2).

Description of Relief Sought/Disposition: To permit part 135 certificate holders that lease aircraft from FedEx to operate those aircraft under part 135 without TSO-C112 (Mode S) transponders installed.

Grant, 07/09/2001, Exemption 5711F.

[FR Doc. 01-21298 Filed 8-22-01; 8:45 am]

BILLING CODE 4910-13-M